DEPARTMENT OF COMMERCE

International Trade Administration

[A-549-820]

Prestressed Concrete Steel Wire Strand From Thailand: Correction to Notice of Opportunity To Request Administrative Review

AGENCY: Import Administration, International Trade Administration, Department of Commerce.

FOR FURTHER INFORMATION CONTACT: Sergio Balbontin, AD/CVD Operations, Office 1, Import Administration, International Trade Administration, U.S. Department of Commerce, 14th Street and Constitution Avenue NW., Washington, DC 20230; telephone: (202) 482-6478.

SUPPLEMENTARY INFORMATION: On January 3, 2012, the Department of Commerce (“Department”) published its opportunity to request administrative review of the antidumping duty order on prestressed concrete steel wire strand (“PC Strand”) from Thailand. See Antidumping or Countervailing Duty Order, Finding, or Suspended Investigation; Opportunity To Request Administrative Review, 77 FR 83 (January 3, 2012). Subsequent to this publication, we identified an inadvertent error. The case number associated with the antidumping duty order on PC Strand from Thailand is incorrect. The correct case number is A-549-820 and not A-583\814. This notice serves as a correction. The opportunity to request administrative review of the antidumping duty order on PC Strand from Thailand is correct and remains unchanged.

Dated: January 17, 2012.
Christian Marsh,
Deputy Assistant Secretary for Antidumping and Countervailing Duty Operations.

[FR Doc. 2012-1107 Filed 1-19-12; 8:45 am]

BILLING CODE 3510-DS-P